NEIGHBORHOOD REINVESTMENT CORPORATION

Neighborworks® America Annual Meeting of the Board of Directors; Sunshine Act

Time & Date: 3 p.m. Tuesday, June 20, 2006.

Place: 1325 G Street, NW., Suite 800, Boardroom, Washington, DC 20005.

Status: Open.

For Further Information Contact: Jeffrey T. Bryson, General Counsel/Secretary, (202) 220-2372; jbryson@nw.org.

Agenda

I. Call to Order

II. Approval of the Minutes

III. Summary Committee Reports

IV. Resolutions of Appreciation

V. Chief Executive Officer's Management Report

VI. Adjournment

Jeffrey T. Bryson,
General Counsel/Secretary.

[FR Doc. 06-5503 Filed 6-14-06; 10:53 am]

BILLING CODE 7570-02-M